DEPARTMENT OF COMMERCE

National Oceanic and Atmospheric Administration

[I.D. 071806F]

Pacific Fishery Management Council; Public Meeting/Workshop

AGENCY: National Marine Fisheries Service (NMFS), National Oceanic and Atmospheric Administration (NOAA), Commerce.

ACTION: Notice of a public meeting.

SUMMARY: NOAA Fisheries and The Pacific Fishery Management Council will hold a workshop to discuss the availability and treatment of data in West Coast groundfish stock assessments as well as general modeling issues, including a review of the features and functionality of the Stock Synthesis 2 modeling platform.

DATES: The Data/Modeling workshop will be held Tuesday, August 8, 2006 through Thursday, August 10, 2006. The workshop will start at 8:30 a.m. and end at 5 p.m. each day, or as necessary to complete business.

ADDRESSES: The Data/Modeling workshop will be held at the NOAA Western Regional Center (WRC), 7600 Sand Point Way NE, Building 4, Room 2076, Seattle, WA 98115.

Council address: Pacific Fishery Management Council, 7700 NE Ambassador Place, Suite 101, Portland, OR 97220-1384.

FOR FURTHER INFORMATION CONTACT: Ms. Stacey Miller, Northwest Fisheries Science Center (NWFSC); telephone: (206) 860-3480; or Mr. John DeVore, Pacific Fishery Management Council; telephone: (503) 820-2280.

SUPPLEMENTARY INFORMATION: The purpose of the Data/Modeling workshop is to review available data sources for West Coast groundfish stock assessments and discuss general modeling issues. Topics will include a review of available data, reconstructing historical catch series, standardizing methods for constructing age and length compositions and ageing-error matrices, sample-size issues, the features and functionality of the Stock Synthesis 2 modeling platform, appropriate spatial scales for assessments, as well as the treatment of uncertainty in tuning indices and parameter values (use of priors).

All participants are encouraged to pre-register for the workshop by contacting Ms. Stacey Miller, Northwest Fisheries Science Center (NWFSC) by phone at (206) 860-3480 or by e-mail at Stacey.Miller@noaa.gov.

Although non-emergency issues not contained in the meeting agenda may come before the workshop participants for discussion, those issues may not be the subject of formal workshop action during this meeting. Workshop action will be restricted to those issues specifically listed in this notice and any issues arising after publication of this notice that require emergency action under section 305c) of the Magnuson-Stevens Fishery Conservation and Management Act, provided the public has been notified of the workshop participants' intent to take final action to address the emergency.

Pre-registration for the workshop will expedite entry to the NOAA WRC. All WRC visitors will be required to show a valid picture ID and register with security every morning. A visitor's badge, which must be worn while at the NOAA Facility, will be issued to non-Federal employees participating in the meeting.Special Accommodations

This meeting is physically accessible to people with disabilities. Requests for sign language interpretation or other auxiliary aids should be directed to Ms. Carolyn Porter at (503) 820-2280 at least 5 days prior to the meeting date.

Dated: July 19, 2006.
Tracey L. Thompson,
Acting Director, Office of Sustainable Fisheries, National Marine Fisheries Service.

[FR Doc. E6-11685 Filed 7-21-06; 8:45 am]

BILLING CODE 3510-22-S